DEPARTMENT OF JUSTICE

Antitrust Division

Notice Pursuant to the National Cooperative Research and Production Act of 1993—JABO Metal Fabrication, Inc.

Notice is hereby given that, on February 21, 2002, pursuant to Section 6(a) of the National Cooperative Research and Production Act of 1993, 15 U.S.C. 4301 et seq. (“the Act”), JABO Metal Fabrication, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Handi-House Manufacturing Co., Swainsboro, GA; Lark Builders, Inc., Vidalia, GA; Donald E. Flanders, Swainsboro, GA; and Robert L. Moore, Jr., Vidalia, GA. The nature and objectives of the venture are the manufacture and production of wholesale sheet metal and sale and distribution of sheet metal products to industrial and commercial customers.

Constance K. Robinson,
Director of Operations, Antitrust Division.

[FR Doc. 02-18229 Filed 7-18-02; 8:45 am]

BILLING CODE 4410-01-M